DEPARTMENT OF TRANSPORTATION

National Highway Traffic Safety Administration

49 CFR Part 541

[Docket No. NHTSA-2011-0075]

Final Theft Data; Motor Vehicle Theft Prevention Standard

AGENCY: National Highway Traffic Safety Administration (NHTSA), Department of Transportation.

ACTION: Publication of 2009 final theft data.

SUMMARY: This document publishes the final data on thefts of model year (MY) 2009 passenger motor vehicles that occurred in calendar year (CY) 2009. The final 2009 theft data indicated a decrease in the vehicle theft rate experienced in CY/MY 2009. The final theft rate for MY 2009 passenger vehicles stolen in calendar year 2009 is 1.33 thefts per thousand vehicles, a decrease of 21.3 percent from the rate of 1.69 thefts per thousand in 2008. Publication of these data fulfills NHTSA's statutory obligation to periodically obtain accurate and timely theft data and publish the information for review and comment.

DATES: Effective date: October 24, 2011.

FOR FURTHER INFORMATION CONTACT: Ms. Deborah Mazyck, Office of International Policy, Fuel Economy and Consumer Programs, NHTSA, 1200 New Jersey Avenue, SE., Washington, DC 20590. Ms. Mazyck's telephone number is (202) 366-4139. Her fax number is (202) 493-2990.

SUPPLEMENTARY INFORMATION: NHTSA administers a program for reducing motor vehicle theft. The central feature of this program is the Federal Motor Vehicle Theft Prevention Standard, 49 CFR part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the § 33104(b)(4) mandate, this document reports the final theft data for CY 2009, the most recent calendar year for which data are available.

In calculating the 2009 theft rates, NHTSA followed the same procedures it used in calculating the MY 2008 theft rates. (For 2008 theft data calculations, see 76 FR 2598, January 14, 2011). As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2009 theft rate for each vehicle line was calculated by dividing the number of reported thefts of MY 2009 vehicles of that line stolen during calendar year 2009 by the total number of vehicles in that line manufactured for MY 2009, as reported to the Environmental Protection Agency (EPA).

The final 2009 theft data show a decrease in the vehicle theft rate when compared to the theft rate experienced in CY/MY 2008. The final theft rate for MY 2009 passenger vehicles stolen in calendar year 2009 decreased to 1.33 thefts per thousand vehicles produced, a decrease of 21.3 percent from the rate of 1.69 thefts per thousand vehicles experienced by MY 2008 vehicles in CY 2008. A similar decreasing trend in vehicle thefts was reported in the Federal Bureau of Investigation's (FBI) 2009 Uniform Crime Report showing a 17% reduction in motor vehicle thefts (automobiles, trucks, buses and other vehicles) from 2008 to 2009.

For MY 2009 vehicles, out of a total of 239 vehicle lines, 11 lines had a theft rate higher than 3.5826 per thousand vehicles, the established median theft rate for MYs 1990/1991. (See 59 FR 12400, March 16, 1994). Of the 11 vehicle lines with a theft rate higher than 3.5826, 11 are passenger car lines, none are multipurpose passenger vehicle lines, and none are light-duty truck lines.

NHTSA's data show that the MY 2009 theft rate reduction is consistent with the general decreasing trend of theft rates over the past 16 years as indicated by Figure 1. The agency attributes this theft rate reduction to the effectiveness of combined measures used by federal agencies, law enforcement, vehicle manufacturers and the insurance industry to help combat vehicle theft.

The agency believes that the theft rate reduction could be the result of several factors including the increased use of standard antitheft devices (i.e., immobilizers), vehicle parts marking, increased and improved prosecution efforts by law enforcement organizations and increased public awareness measures.

On Wednesday, June 22, 2011, NHTSA published the preliminary theft rates for CY 2009 passenger motor vehicles in the Federal Register (76 FR 36486). The agency tentatively ranked each of the MY 2009 vehicle lines in descending order of theft rate. The public was requested to comment on the accuracy of the data and to provide final production figures for individual vehicle lines. The agency used written comments to make the necessary adjustments to its data. As a result of the adjustments, some of the final theft rates and rankings of vehicle lines changed from those published in the June 2011 notice. The agency received written comments from Volkswagen Group of America, Inc. (VW) and Mercedes-Benz USA, LLC (Mercedes-Benz).

In its comments, VW informed the agency that the production volume for the Volkswagen Eos is incorrect. In response to this comment, the production volume for the Volkswagen Eos has been corrected and the final theft data has been revised accordingly. As a result of the correction, the Volkswagen Eos previously ranked No. 154 with a theft rate of 0.5230 is now ranked No. 155 with a theft rate of 0.5229.

In its comments, Mercedes-Benz informed the agency that the production volume for the Mercedes-Benz CL-Class was incorrect. The production volume for the Mercedes-Benz CL-Class has been corrected and the final theft data has been revised accordingly. As a result of this correction, the Mercedes-Benz CL-Class previously ranked No. 41 with a theft rate of 1.9589 is now ranked No. 10 with a theft rate of 3.9124.

Mercedes-Benz also informed the agency that its CLS-Class vehicle line was not listed in the agency's June 2011 publication of preliminary data. NHTSA is correcting the final theft data to include the thefts and production volume for the Mercedes-Benz CLS-Class. As a result of this correction, the Mercedes-Benz CLS-Class, previously not listed, is ranked No. 76 with a theft rate of 1.3065.

As a result of changes in the theft ranking, reanalysis of the theft rate data revealed that the number of vehicle lines reported with a theft rate higher than 3.5826 was incorrect. The publication of preliminary theft data for CY 2009 erroneously reported that there were 10 passenger cars, no multipurpose passenger vehicle lines and no light-duty truck lines with theft rates higher than 3.5826. NHTSA is correcting the final theft data to reflect that 11 passenger car lines, no multipurpose passenger vehicle lines, and no light truck lines had a theft rate higher than 3.5826.

The following list represents NHTSA's final calculation of theft rates for all 2009 passenger motor vehicle lines. This list is intended to inform the public of calendar year 2009 motor vehicle thefts of model year 2009 vehicles and does not have any effect on the obligations of regulated parties under 49 U.S.C. Chapter 331, Theft Prevention.

Final Report of Theft Rates for Model Year 2009 Passenger Motor Vehicles Stolen in Calendar Year 2009
| Manufacturer | Make/model (line) | Thefts 2009 | Production (Mfr's) 2009 | 2009 Theft rate (per 1,000 vehicles produced)
1 | AUDI | AUDI S8 | 2 | 227 | 8.8106
2 | FORD MOTOR CO | SHELBY GT | 5 | 581 | 8.6059
3 | BMW | M5 | 2 | 264 | 7.5758
4 | CHRYSLER | DODGE CHARGER | 432 | 66,856 | 6.4616
5 | HONDA | S2000 | 2 | 357 | 5.6022
6 | MITSUBISHI | GALANT | 152 | 29,716 | 5.1151
7 | CHRYSLER | 300 | 143 | 31,287 | 4.5706
8 | NISSAN | INFINITI M35/M45 | 27 | 6,243 | 4.3248
9 | GENERAL MOTORS | CADILLAC STS | 31 | 7,239 | 4.2824
10 | MERCEDES-BENZ | CL-CLASS | 5 | 1,278 | 3.9124
11 | CHRYSLER | SEBRING CONVERTIBLE | 18 | 4,827 | 3.7290
12 | CHRYSLER | DODGE AVENGER | 107 | 31,667 | 3.3789
13 | CHRYSLER | SEBRING | 65 | 19,588 | 3.3184
14 | AUDI | AUDI A8 | 6 | 1,810 | 3.3149
15 | VOLVO | V70 | 3 | 996 | 3.0120
16 | GENERAL MOTORS | PONTIAC G5 | 60 | 20,623 | 2.9094
17 | GENERAL MOTORS | PONTIAC G6 | 281 | 99,226 | 2.8319
18 | CHRYSLER | DODGE CALIBER | 125 | 44,554 | 2.8056
19 | CHRYSLER | PT CRUISER | 69 | 24,876 | 2.7738
20 | GENERAL MOTORS | CHEVROLET IMPALA | 499 | 183,769 | 2.7154
21 | NISSAN | INFINITI FX35 | 35 | 13,375 | 2.6168
22 | CHRYSLER | DODGE CHALLENGER | 53 | 20,526 | 2.5821
23 | NISSAN | PATHFINDER | 13 | 5,076 | 2.5611
24 | BMW | M6 | 1 | 397 | 2.5189
25 | CHRYSLER | DODGE NITRO | 26 | 10,539 | 2.4670
26 | NISSAN | MAXIMA | 141 | 58,278 | 2.4194
27 | KIA | RONDO | 42 | 17,573 | 2.3900
28 | MAZDA | 5 | 53 | 22,248 | 2.3822
29 | GENERAL MOTORS | CHEVROLET MALIBU | 413 | 176,813 | 2.3358
30 | KIA | SPECTRA | 135 | 60,296 | 2.2390
31 | GENERAL MOTORS | CHEVROLET COBALT | 312 | 141,588 | 2.2036
32 | GENERAL MOTORS | SATURN AURA | 78 | 35,472 | 2.1989
33 | MERCEDES-BENZ | S-CLASS | 22 | 10,189 | 2.1592
34 | GENERAL MOTORS | CHEVROLET HHR | 172 | 80,781 | 2.1292
35 | TOYOTA | SCION TC | 57 | 27,179 | 2.0972
36 | JAGUAR LAND ROVER | XF | 27 | 12,953 | 2.0845
37 | MAZDA | 3 | 99 | 47,569 | 2.0812
38 | FORD MOTOR CO | LINCOLN TOWN CAR | 24 | 11,596 | 2.0697
39 | TOYOTA | AVALON | 45 | 22,030 | 2.0427
40 | NISSAN | 350Z | 1 | 503 | 1.9881
41 | VOLVO | C70 | 8 | 4,027 | 1.9866
42 | FORD MOTOR CO | MUSTANG | 81 | 41,354 | 1.9587
43 | GENERAL MOTORS | CADILLAC DTS | 32 | 16,566 | 1.9317
44 | MAZDA | 6 | 76 | 39,504 | 1.9239
45 | MITSUBISHI | ECLIPSE | 24 | 12,760 | 1.8809
46 | NISSAN | ALTIMA | 410 | 228,101 | 1.7974
47 | FORD MOTOR CO | MERCURY SABLE | 11 | 6,146 | 1.7898
48 | GENERAL MOTORS | CADILLAC CTS | 91 | 50,926 | 1.7869
49 | VOLVO | S60 | 12 | 6,837 | 1.7552
50 | TOYOTA | CAMRY/SOLARA | 781 | 447,882 | 1.7438
51 | TOYOTA | COROLLA | 632 | 363,515 | 1.7386
52 | HYUNDAI | SONATA | 270 | 159,775 | 1.6899
53 | GENERAL MOTORS | CHEVROLET TRAILBLAZER | 22 | 13,022 | 1.6894
54 | TOYOTA | 4RUNNER | 13 | 7,803 | 1.6660
55 | BMW | 6 | 4 | 2,420 | 1.6529
56 | GENERAL MOTORS | CHEVROLET AVEO | 94 | 58,439 | 1.6085
57 | NISSAN | SENTRA | 104 | 65,096 | 1.5976
58 | FORD MOTOR CO | FOCUS | 235 | 148,244 | 1.5852
59 | HYUNDAI | ACCENT | 92 | 59,709 | 1.5408
60 | NISSAN | VERSA | 159 | 104,658 | 1.5192
61 | MAZDA | B SERIES PICKUP | 1 | 660 | 1.5152
62 | CHRYSLER | DODGE JOURNEY | 124 | 82,331 | 1.5061
63 | KIA | RIO | 61 | 41,036 | 1.4865
64 | MERCEDES-BENZ | C-CLASS | 86 | 57,872 | 1.4860
65 | GENERAL MOTORS | CHEVROLET CORVETTE | 23 | 15,647 | 1.4699
66 | NISSAN | 370Z | 16 | 11,024 | 1.4514
67 | NISSAN | XTERRA | 19 | 13,106 | 1.4497
68 | JAGUAR LAND ROVER | XKR | 1 | 696 | 1.4368
69 | FORD MOTOR CO | MERCURY GRAND MARQUIS | 30 | 21,102 | 1.4217
70 | GENERAL MOTORS | PONTIAC TORRENT | 13 | 9,403 | 1.3825
71 | FORD MOTOR CO | TAURUS | 34 | 25,094 | 1.3549
72 | CHRYSLER | JEEP COMPASS | 14 | 10,346 | 1.3532
73 | NISSAN | FRONTIER PICKUP | 31 | 23,030 | 1.3461
74 | VOLVO | S40 | 9 | 6,743 | 1.3347
75 | AUDI | AUDI A3 | 5 | 3,761 | 1.3294
76 | MERCEDES-BENZ | CLS-CLASS | 5 | 3,827 | 1.3065
77 | FORD MOTOR CO | EDGE | 58 | 44,744 | 1.2963
78 | GENERAL MOTORS | BUICK LACROSSE/ALLURE | 24 | 18,532 | 1.2951
79 | TOYOTA | YARIS | 93 | 72,826 | 1.2770
80 | GENERAL MOTORS | GMC ENVOY | 7 | 5,661 | 1.2365
81 | MASERATI | QUATTROPORTE | 1 | 817 | 1.2240
82 | KIA | OPTIMA | 43 | 35,610 | 1.2075
83 | NISSAN | GT-R | 3 | 2,505 | 1.1976
84 | GENERAL MOTORS | SATURN VUE | 47 | 39,342 | 1.1947
85 | TOYOTA | LEXUS LS | 11 | 9,418 | 1.1680
86 | CHRYSLER | JEEP LIBERTY | 36 | 31,272 | 1.1512
87 | GENERAL MOTORS | BUICK LUCERNE | 36 | 31,751 | 1.1338
88 | KIA | SEDONA VAN | 21 | 18,684 | 1.1240
89 | KIA | AMANTI | 1 | 931 | 1.0741
90 | TOYOTA | LEXUS IS | 34 | 31,875 | 1.0667
91 | TOYOTA | SCION XB | 39 | 37,039 | 1.0529
92 | FORD MOTOR CO | FLEX | 44 | 42,100 | 1.0451
93 | GENERAL MOTORS | PONTIAC VIBE | 59 | 56,730 | 1.0400
94 | MAZDA | RX-8 | 3 | 3,000 | 1.0000
95 | VOLKSWAGEN | GOLF/RABBIT/GTI | 19 | 19,005 | 0.9997
96 | AUDI | AUDI R8 | 1 | 1,022 | 0.9785
97 | KIA | SORENTO | 12 | 12,435 | 0.9650
98 | AUDI | AUDI S4/S5 | 3 | 3,112 | 0.9640
99 | MITSUBISHI | LANCER | 37 | 38,655 | 0.9572
100 | TOYOTA | SIENNA VAN | 61 | 63,797 | 0.9562
101 | KIA | SPORTAGE | 34 | 35,892 | 0.9473
102 | HONDA | ACCORD | 297 | 315,205 | 0.9422
103 | GENERAL MOTORS | PONTIAC G8 | 24 | 25,556 | 0.9391
104 | HONDA | ACURA TSX | 35 | 37,306 | 0.9382
105 | FORD MOTOR CO | FUSION | 96 | 103,268 | 0.9296
106 | TOYOTA | MATRIX | 54 | 58,240 | 0.9272
107 | SUZUKI | SX4 | 23 | 24,859 | 0.9252
108 | GENERAL MOTORS | CHEVROLET EQUINOX | 30 | 32,555 | 0.9215
109 | MERCEDES-BENZ | E-CLASS | 17 | 18,803 | 0.9041
110 | MASERATI | GRANTURISMO | 1 | 1,123 | 0.8905
111 | NISSAN | MURANO | 96 | 108,188 | 0.8873
112 | CHRYSLER | JEEP WRANGLER | 58 | 67,122 | 0.8641
113 | VOLKSWAGEN | JETTA/GLI | 97 | 112,506 | 0.8622
114 | NISSAN | QUEST VAN | 7 | 8,232 | 0.8503
115 | FORD MOTOR CO | LINCOLN MKS | 22 | 26,153 | 0.8412
116 | NISSAN | INFINITI G37 | 42 | 50,524 | 0.8313
117 | BMW | M3 | 3 | 3,642 | 0.8237
118 | VOLVO | C30 | 3 | 3,693 | 0.8123
119 | SUBARU | LEGACY | 21 | 26,278 | 0.7991
120 | SUBARU | IMPREZA | 34 | 42,551 | 0.7990
121 | HYUNDAI | ELANTRA | 61 | 76,637 | 0.7960
122 | MERCEDES-BENZ | SL-CLASS | 6 | 7,559 | 0.7938
123 | TOYOTA | TACOMA PICKUP | 92 | 116,059 | 0.7927
124 | HONDA | CIVIC | 218 | 278,426 | 0.7830
125 | HYUNDAI | GENESIS | 15 | 19,504 | 0.7691
126 | AUDI | AUDI Q5 | 5 | 6,531 | 0.7656
127 | FORD MOTOR CO | ESCAPE | 113 | 148,860 | 0.7591
128 | MERCEDES-BENZ | SLK-CLASS | 3 | 3,987 | 0.7524
129 | HYUNDAI | SANTA FE | 57 | 77,857 | 0.7321
130 | MAZDA | CX-9 | 10 | 14,024 | 0.7131
131 | GENERAL MOTORS | CHEVROLET COLORADO PICKUP | 20 | 28,286 | 0.7071
132 | CHRYSLER | JEEP PATRIOT | 23 | 32,611 | 0.7053
133 | HONDA | ACURA RDX | 6 | 8,690 | 0.6904
134 | FORD MOTOR CO | LINCOLN MKX | 8 | 11,626 | 0.6881
135 | PORSCHE | BOXSTER | 1 | 1,460 | 0.6849
136 | VOLVO | S80 | 5 | 7,409 | 0.6749
137 | AUDI | AUDI TT | 2 | 2,989 | 0.6691
138 | NISSAN | INFINITI FX50 | 1 | 1,510 | 0.6623
139 | TOYOTA | RAV4 | 79 | 119,381 | 0.6617
140 | BMW | 7 | 5 | 7,613 | 0.6568
141 | TOYOTA | LEXUS RX | 42 | 64,266 | 0.6535
142 | NISSAN | ROGUE | 47 | 73,877 | 0.6362
143 | VOLKSWAGEN | TIGUAN | 12 | 19,076 | 0.6291
144 | PORSCHE | CAYMAN | 1 | 1,591 | 0.6285
145 | TOYOTA | FJ CRUISER | 2 | 3,185 | 0.6279
146 | MAZDA | CX-7 | 8 | 12,906 | 0.6199
147 | SUZUKI | VITARA/GRAND VITARA | 4 | 6,476 | 0.6177
148 | AUDI | AUDI A4/A5 | 27 | 44,950 | 0.6007
149 | HONDA | ACURA 3.2 TL | 20 | 33,690 | 0.5936
150 | TOYOTA | HIGHLANDER | 33 | 57,166 | 0.5773
151 | FORD MOTOR CO | TAURUS X | 3 | 5,209 | 0.5759
152 | TOYOTA | SCION XD | 10 | 17,587 | 0.5686
153 | MERCEDES-BENZ | SMART FORTWO | 8 | 14,169 | 0.5646
154 | TOYOTA | LEXUS GS | 3 | 5,537 | 0.5418
155 | VOLKSWAGEN | EOS | 5 | 9,562 | 0.5229
156 | BMW | 3 | 44 | 84,350 | 0.5216
157 | VOLKSWAGEN | PASSAT | 16 | 31,310 | 0.5110
158 | GENERAL MOTORS | SATURN SKY | 2 | 4,078 | 0.4904
159 | FORD MOTOR CO | LINCOLN MKZ | 8 | 16,676 | 0.4797
160 | AUDI | AUDI A6 | 2 | 4,193 | 0.4770
161 | GENERAL MOTORS | PONTIAC SOLSTICE | 2 | 4,202 | 0.4760
162 | HONDA | PILOT | 40 | 84,089 | 0.4757
163 | GENERAL MOTORS | GMC CANYON PICKUP | 4 | 8,614 | 0.4644
164 | HONDA | ACURA MDX | 16 | 34,540 | 0.4632
165 | HYUNDAI | TUCSON | 5 | 11,032 | 0.4532
166 | VOLKSWAGEN | NEW BEETLE | 8 | 18,284 | 0.4375
167 | MAZDA | TRIBUTE | 2 | 4,670 | 0.4283
168 | BMW | 5 | 9 | 21,963 | 0.4098
169 | HONDA | ODYSSEY VAN | 30 | 73,777 | 0.4066
170 | BMW | 1 | 4 | 10,189 | 0.3926
171 | FORD MOTOR CO | RANGER PICKUP | 19 | 49,466 | 0.3841
172 | SUBARU | FORESTER | 34 | 88,771 | 0.3830
173 | PORSCHE | 911 | 3 | 7,929 | 0.3784
174 | FORD MOTOR CO | MERCURY MILAN | 7 | 18,556 | 0.3772
175 | HONDA | ACURA 3.5 RL | 1 | 2,670 | 0.3745
176 | BMW | X3 | 2 | 5,448 | 0.3671
177 | HONDA | ELEMENT | 4 | 11,114 | 0.3599
178 | MITSUBISHI | OUTLANDER | 4 | 11,904 | 0.3360
179 | TOYOTA | PRIUS | 27 | 82,659 | 0.3266
180 | TOYOTA | LEXUS ES | 13 | 42,833 | 0.3035
181 | JAGUAR LAND ROVER | LAND ROVER LR2 | 1 | 3,443 | 0.2904
182 | BMW | Z4/M | 1 | 3,637 | 0.2750
183 | TOYOTA | VENZA | 15 | 58,897 | 0.2547
184 | HONDA | FIT | 21 | 83,765 | 0.2507
185 | SUBARU | OUTBACK | 9 | 36,410 | 0.2472
186 | HONDA | CR-V | 40 | 171,943 | 0.2326
187 | FORD MOTOR CO | CROWN VICTORIA | 8 | 36,101 | 0.2216
188 | SAAB | 9-3 | 1 | 4,593 | 0.2177
189 | NISSAN | CUBE | 6 | 28,243 | 0.2124
190 | KIA | BORREGO | 3 | 14714 | 0.2039
191 | MERCEDES-BENZ | CLK-CLASS | 3 | 15,654 | 0.1916
192 | SUBARU | B9 TRIBECA | 1 | 6,806 | 0.1469
193 | BMW | MINI COOPER | 6 | 51,935 | 0.1155
194 | FORD MOTOR CO | MERCURY MARINER | 2 | 25,682 | 0.0779
195 | ASTON MARTIN | DB9 | 0 | 741 | 0.0000
196 | ASTON MARTIN | VANTAGE | 0 | 582 | 0.0000
197 | AUDI | AUDI S6 | 0 | 100 | 0.0000
198 | BENTLEY MOTORS | ARNAGE | 0 | 86 | 0.0000
199 | BENTLEY MOTORS | AZURE | 0 | 66 | 0.0000
200 | BENTLEY MOTORS | BROOKLANDS | 0 | 94 | 0.0000
201 | BENTLEY MOTORS | CONTINENTAL | 0 | 930 | 0.0000
202 | CHRYSLER | DODGE VIPER | 0 | 575 | 0.0000
203 | FERRARI | 141 | 0 | 109 | 0.0000
204 | FERRARI | 430 | 0 | 605 | 0.0000
205 | FERRARI | 612 SCAGLIETTI | 0 | 29 | 0.0000
206 | FERRARI | CALIFORNIA | 0 | 53 | 0.0000
207 | GENERAL MOTORS | CADILLAC FUNERAL COACH/HEARSE | 0 | 714 | 0.0000
208 | GENERAL MOTORS | CADILLAC LIMOUSINE | 0 | 330 | 0.0000
209 | GENERAL MOTORS | CADILLAC XLR | 0 | 858 | 0.0000
210 | GENERAL MOTORS | PONTIAC G3 | 0 | 6,237 | 0.0000
211 | GENERAL MOTORS | SATURN ASTRA | 0 | 851 | 0.0000
212 | HYUNDAI | AZERA | 0 | 5,062 | 0.0000
213 | HYUNDAI | VERACRUZ | 0 | 2,188 | 0.0000
214 | JAGUAR LAND ROVER | VANDEN PLAS/SUPER V8 | 0 | 326 | 0.0000
215 | JAGUAR LAND ROVER | XJ8/XJ8L | 0 | 358 | 0.0000
216 | JAGUAR LAND ROVER | XJR | 0 | 11 | 0.0000
217 | JAGUAR LAND ROVER | XK | 0 | 903 | 0.0000
218 | LAMBORGHINI | GALLARDO | 0 | 281 | 0.0000
219 | LAMBORGHINI | MURCIELAGO | 0 | 110 | 0.0000
220 | LOTUS | ELISE | 0 | 120 | 0.0000
221 | LOTUS | EXIGE | 0 | 27 | 0.0000
222 | MAZDA | MX-5 MIATA | 0 | 4,293 | 0.0000
223 | MERCEDES-BENZ | MAYBACH 57 | 0 | 27 | 0.0000
224 | MERCEDES-BENZ | MAYBACH 62 | 0 | 18 | 0.0000
225 | MERCEDES-BENZ | MAYBACH LANDAULET | 0 | 2 | 0.0000
226 | MERCEDES-BENZ | SLR-CLASS | 0 | 69 | 0.0000
227 | MITSUBISHI | ENDEAVOR | 0 | 50 | 0.0000
228 | NISSAN | INFINITI EX35 | 0 | 2,169 | 0.0000
229 | ROLLS ROYCE | PHANTOM | 0 | 409 | 0.0000
230 | ROUSH PERFORMANCE | RPP MUSTANG | 0 | 395 | 0.0000
231 | SAAB | 9-5 | 0 | 732 | 0.0000
232 | SPYKER | C8 | 0 | 18 | 0.0000
233 | SUZUKI | EQUATOR PICKUP | 0 | 2,380 | 0.0000
234 | SUZUKI | XL7 | 0 | 1,290 | 0.0000
235 | TESLA | ROADSTER | 0 | 900 | 0.0000
236 | TOYOTA | LEXUS SC | 0 | 511 | 0.0000
237 | VOLVO | V50 | 0 | 1,913 | 0.0000
238 | VOLVO | XC70 | 0 | 4,614 | 0.0000
239 | VOLVO | XC90 | 0 | 6,806 | 0.0000

Issued on: October 18, 2011.
Christopher J. Bonanti,
Associate Administrator for Rulemaking.

[FR Doc. 2011-27370 Filed 10-21-11; 8:45 am]

BILLING CODE 4910-59-P